DEPARTMENT OF LABOR

Employment and Training Administration

[TA-W-59,950]

Stanley-Bostitch, Inc., a Division of Stanley Works Inc., Including On-Site Leased Workers From Admiral Staffing Solutions, Clinton, CT; Certification Regarding Eligibility To Apply for Worker Adjustment Assistance and Alternative Trade Adjustment Assistance

In accordance with Section 223 of the Trade Act of 1974 (19 U.S.C. 2273), as amended, the Department of Labor herein presents the results of an investigation regarding certification of eligibility to apply for worker adjustment assistance as a secondarily affected worker group.

In order to make an affirmative determination and issue a certification of eligibility for secondary workers to apply for Trade Adjustment Assistance, the group eligibility requirements of paragraph (b) of Section 222 of the Trade Act, as amended, must be met. It is determined in this case that the requirements of (b) of Section 222, as amended, have been met.

The investigation was initiated on August 24, 2006 in response to a petition filed by a state agency representative on behalf of workers of Stanley-Bostitch, Inc., a division of Stanley Works, Inc., including on-site leased workers of Admiral Staffing Solutions, Clinton, Connecticut. The workers produce wire drawing used in staples, pins, and other fastening devices.

The investigation revealed a significant number or proportion of workers at the subject facility are threatened to become separated from employment.

The investigation also revealed that the Clinton, Connecticut plant produced wire drawing used as a component by a manufacturer whose workers were certified eligible to apply for adjustment assistance. At least 20 percent of the production or sales of the subject firm went to this manufacturer.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the facts obtained in the investigation, I determine that workers of Stanley-Bostitch, Inc., a division of Stanley Works Inc., including on-site leased workers of Admiral Staffing Solutions, Clinton, Connecticut qualify as adversely affected secondary workers under Section 222 of the Trade Act of 1974, as amended. In accordance with the provisions of the Act, I make the following certification:

“All workers of Stanley-Bostitch, Inc., a division of Stanley Works Inc., including on-site leased workers of Admiral Staffing Solutions, Clinton, Connecticut who became totally or partially separated from employment on or after August 23, 2005, through two years from the date of certification are eligible to apply for adjustment assistance under Section 223 of the Trade Act of 1974, and are also eligible to apply for alternative trade adjustment assistance under Section 246 of the Trade Act of 1974.”

Signed in Washington, DC, this 14th day of September 2006.
Richard Church,
Certifying Officer, Division of Trade Adjustment Assistance.

[FR Doc. E6-16351 Filed 10-3-06; 8:45 am]

BILLING CODE 4510-30-P